ENVIRONMENTAL PROTECTION AGENCY

40 CFR Part 180

[EPA-HQ-OPP-2006-0942; FRL-8105-4]

Extension of Tolerances for Emergency Exemptions (Multiple Chemicals)

AGENCY: Environmental Protection Agency (EPA).

ACTION: Final rule.

SUMMARY: This regulation extends time-limited tolerances for the pesticides listed in this document. These actions are in response to EPA's granting of emergency exemptions under section 18 of the Federal Insecticide, Fungicide, and Rodenticide Act (FIFRA) authorizing use of these pesticides. Section 408(l)(6) of the Federal Food, Drug, and Cosmetic Act (FFDCA) requires EPA to establish a time-limited tolerance or exemption from the requirement for a tolerance for pesticide chemical residues in food that will result from the use of a pesticide under an emergency exemption granted by EPA.

DATES: This regulation is effective December 20, 2006. Objections and requests for hearings must be received on or before February 20, 2007, and must be filed in accordance with the instructions provided in 40 CFR part 178 (see also Unit I.C. of the SUPPLEMENTARY INFORMATION).

ADDRESSES: EPA has established a docket for this action under docket identification (ID) number EPA-HQ-OPP-2006-0942. All documents in the docket are listed on the regulations.gov website. Although listed in the index, some information is not publicly available, e.g., Confidential Business Information (CBI) or other information whose disclosure is restricted by statute. Certain other material, such as copyrighted material, is not placed on the Internet and will be publicly available only in hard copy form. Publicly available docket materials are available either in the electronic docket at http://www.regulations.gov, or, if only available in hard copy, at the Office of Pesticide Programs (OPP) Regulatory Public Docket, Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: See the table in this unit for the name of a specific contact person. The following information applies to all contact persons: Emergency Response Team, Registration Division (7505P), Office of Pesticide Programs, Environmental Protection Agency, 1200 Pennsylvania Ave., NW., Washington, DC 20460-0001.

Pesticide/CFR section | Contact person
Acibenzolar-S-methyl, 180.561 Mancozeb, 180.176 | Libby Pemberton pemberton.libby@epa.gov (703) 308-9364
Bifenthrin, 180.442 Thiophanate-methyl, 180.371 | Andrea Conrath conrath.andrea@epa.gov (703) 308-9356
Flufenacet, 180.527 Propyzamide, 180.317 | Andrew Ertman ertman.andrew@epa.gov (703) 308-9367
Zoxamide, 180.567 | Stacey Groce groce.stacey@epa.gov (703) 305-2505

SUPPLEMENTARY INFORMATION:

I. General Information

A. Does this Action Apply to Me?

You may be potentially affected by this action, if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult one of the persons listed in the table under FOR FURTHER INFORMATION CONTACT.

B. How Can I Access Electronic Copies of this Document?

In addition to accessing an electronic copy of this Federal Register document through the electronic docket at http://www.regulations.gov, you may access this Federal Register document electronically through the EPA Internet under the “Federal Register” listings at http://www.epa.gov/fedrgstr. You may also access a frequently updated electronic version of 40 CFR part 180 through the Government Printing Office's pilot e-CFR site at http://www.gpoaccess.gov/ecfr.

C. Can I File an Objection or Hearing Request?

Under section 408(g) of FFDCA, as amended by the Food Quality Protection Act of 1996 (FQPA), any person may file an objection to any aspect of this regulation and may also request a hearing on those objections. The EPA procedural regulations which govern the submission of objections and requests for hearings appear in 40 CFR part 178. You must file your objection or request a hearing on this regulation in accordance with the instructions provided in 40 CFR part 178. To ensure proper receipt by EPA, you must identify docket ID number EPA-HQ-OPP-2006-0942 in the subject line on the first page of your submission. All requests must be in writing, and must be mailed or delivered to the Hearing Clerk on or before February 20, 2007.

In addition to filing an objection or hearing request with the Hearing Clerk as described in 40 CFR part 178, please submit a copy of the filing that does not contain any CBI for inclusion in the public docket that is described in ADDRESSES. Information not marked confidential pursuant to 40 CFR part 2 may be disclosed publicly by EPA without prior notice. Submit your copies, identified by docket ID number EPA-HQ-OPP-2006-0942, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

II. Background and Statutory Findings

EPA published final rules in the Federal Register for each pesticide listed in this document. The initial issuance of these final rules announced that EPA, on its own initiative, under section 408 of FFDCA, 21 U.S.C. 346a, as amended by FQPA (Public Law 104-170) was establishing time-limited tolerances.

EPA established the tolerances because section 408(l)(6) of FFDCA requires EPA to establish a time-limited tolerance or exemption from the requirement for a tolerance for pesticide chemical residues in food that will result from the use of a pesticide under an emergency exemption granted by EPA under FIFRA section 18. Such tolerances can be established without providing notice or time for public comment.

EPA received requests to extend the use of these chemicals for this year's growing season. After having reviewed these submissions, EPA concurs that emergency conditions exist. EPA assessed the potential risks presented by residues for each pesticide. In doing so, EPA considered the safety standard in section 408(b)(2) of FFDCA, and decided that the necessary tolerance under section 408(l)(6) of FFDCA would be consistent with the safety standard and with FIFRA section 18.

The data and other relevant material have been evaluated and discussed in the final rule originally published to support these uses. Based on that data and information considered, the Agency reaffirms that extension of these time-limited tolerances will continue to meet the requirements of section 408(l)(6) of FFDCA. Therefore, the time-limited tolerances are extended until the date listed. EPA will publish a document in the Federal Register to remove the revoked tolerances from the Code of Federal Regulations (CFR). Although these tolerances will expire and are revoked on the date listed, under section 408(l)(5) of FFDCA, residues of the pesticide not in excess of the amounts specified in the tolerance remaining in or on the commodity after that date will not be unlawful, provided the residue is present as a result of an application or use of a pesticide at a time and in a manner that was lawful under FIFRA, the tolerance was in place at the time of the application, and the residue does not exceed the level that was authorized by the tolerance. EPA will take action to revoke these tolerances earlier if any experience with, scientific data on, or other relevant information on this pesticide indicate that the residues are not safe.

Tolerances for the use of the following pesticide chemicals on specific commodities are being extended:

1. Acibenzolar-S-methyl. EPA has authorized under FIFRA section 18 the use of acibenzolar-S-methyl on onions for control of onion thrips, a vector of iris yellow spot virus in Colorado. This regulation extends time-limited tolerances for residues of acibenzolar-S-methyl (benzo(1,2,3)thiadiazole-7-carbothioic acid-S-methyl ester) in or on onion, dry bulb and onion, green at 0.05 parts per million (ppm) for an additional 2½-year period. These tolerances will expire and are revoked on December 31, 2009. Time-limited tolerances were originally published in the Federal Register of February 16, 2005 (70 FR 7854) (FRL-7697-8).

2. Bifenthrin. EPA has authorized under FIFRA section 18 the use of bifenthrin on orchardgrass for control of the orchardgrass billbug in Oregon. This regulation extends time-limited tolerances for residues of the insecticide bifenthrin in or on orchardgrass, forage and orchardgrass, hay at 0.05 ppm for an additional 2½-year period. These tolerances will expire and are revoked on December 31, 2009. Time-limited tolerances were originally published in the Federal Register of July 26, 2002 (67 FR 48790) (FRL-7187-8).

3. Flufenacet. EPA has authorized under FIFRA section 18 the use of flufenacet on winter wheat for control of Italian ryegrass in Idaho, Oregon, and Washington. This regulation extends time-limited tolerances for combined residues of the herbicide N-(4-fluorophenyl)-N-(1-methylethyl)-2-[[-(trifluoromethyl)-1,3,4-thiadiazol-2-yl]oxy]acetamide and its metabolites (containing the 4-fluoro-N-methylethyl benzenamine) in or on wheat, grain at 1 ppm; wheat, forage at 10 ppm; wheat, hay at 2 ppm; wheat, straw at 0.50 ppm; meat, kidney at 0.50 ppm; fat of cattle, goat, horse, hog, and sheep at 0.05 ppm; and meat byproducts (other than kidney) of cattle, goat, horse, hog, and sheep at 0.10 ppm for an additional 2½-year period. These tolerances will expire and are revoked on December 31, 2009. Time-limited tolerances were originally published in the Federal Register of August 6, 1999 (64 FR 42839) (FRL-6091-9).

4. Mancozeb. EPA has authorized under FIFRA section 18 the use of mancozeb on ginseng for control of stem and leaf blight in Michigan and Wisconsin. This regulation extends a time-limited tolerance for combined residues of the fungicide mancozeb (calculated as zinc ethylenebisdithiocarbamate and its metabolite, ethylenethiourea (ETU)), in or on ginseng, root at 2.0 ppm for an additional 3-year period. This tolerance will expire and is revoked on December 31, 2009. A time-limited tolerance was originally published in the Federal Register of October 9, 1998 (63 FR 54362) (FRL-6029-5).

5. Propyzamide. EPA has authorized under FIFRA section 18 the use of propyzamide on cranberries for control of dodder in Massachusetts, New Jersey, and Rhode Island. This regulation extends a time-limited tolerance for combined residues of the herbicide propyzamide and its metabolites (containing the 3,5-dichlorobenzoyl moiety and calculated as 3,5-dichloro-N-(1,1-dimethyl-2-propynyl)benzamide) in or on cranberry at 0.05 ppm for an additional 3-year period. This tolerance will expire and is revoked on December 31, 2009. A time-limited tolerance was originally published in the Federal Register of September 16, 1998 (63 FR 49479) (FRL-6022-5).

6. Thiophanate-methyl. EPA has authorized under FIFRA section 18 the use of thiophanate-methyl on blueberry for control of various fungal diseases in a number of States, including Connecticut, Indiana, Michigan, New Jersey, New York, Ohio, and Pennsylvania. This regulation extends a time-limited tolerance for combined residues of the fungicide thiophanate-methyl and its metabolite, methyl 2-benzimidazoyl carbamate (MBC), in or on blueberry at 1.5 ppm for an additional 2½-year period. This tolerance will expire and is revoked on December 31, 2009. A time-limited tolerance was originally published in the Federal Register of September 12, 2002 (67 FR 57748) (FRL-7196-5).

7. Thiophanate-methyl. EPA has authorized under FIFRA section 18 the use of thiophanate-methyl on citrus for control of post-bloom fruit drop in Florida and Louisiana. This regulation extends a time-limited tolerance for combined residues of the fungicide thiophanate-methyl and its metabolite, MBC, in or on citrus at 0.5 ppm for an additional 2½-year period. This tolerance will expire and is revoked on December 31, 2009. A time-limited tolerance was originally published in the Federal Register of September 12, 2002 (67 FR 57748) (FRL-7196-5).

8. Zoxamide. EPA has authorized under FIFRA section 18 the use of zoxamide on ginseng for control of phytophthora blight in Michigan and Wisconsin. This regulation extends a time-limited tolerance for residues of the fungicide zoxamide (3,5-dichloro-N-(3-chloro-1-ethyl-1-methyl-2-oxopropyl)-4-methylbenzamide) in or on ginseng at 0.06 ppm for an additional 3-year period. This tolerance will expire and is revoked on December 31, 2009. A time-limited tolerance was originally published in the Federal Register of March 31, 2004 (69 FR 16800) (FRL-7349-3).

III. Statutory and Executive Order Reviews

This final rule establishes time-limited tolerances under section 408 of FFDCA. The Office of Management and Budget (OMB) has exempted these types of actions from review under Executive Order 12866, entitled Regulatory Planning and Review (58 FR 51735, October 4, 1993). Because this final rule has been exempted from review under Executive Order 12866 due to its lack of significance, this final rule is not subject to Executive Order 13211, Actions Concerning Regulations That Significantly Affect Energy Supply, Distribution, or Use (66 FR 28355, May 22, 2001). This final rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations under Executive Order 12898, entitled Federal Actions to Address Environmental Justice in Minority Populations and Low-Income Populations (59 FR 7629, February 16, 1994); or OMB review or any Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). Since tolerances and exemptions that are established under section 408(l)(6) of FFDCA in response to an exemption under FIFRA section 18, such as the tolerances in this final rule, do not require the issuance of a proposed rule, the requirements of the Regulatory Flexibility Act (RFA) (5 U.S.C. 601 et seq.) do not apply. In addition, the Agency has determined that this action will not have a substantial direct effect on States, on the relationship between the national government and the States, or on the distribution of power and responsibilities among the various levels of government, as specified in Executive Order 13132, entitled Federalism (64 FR 43255, August 10, 1999). Executive Order 13132, requires EPA to develop an accountable process to ensure “meaningful and timely input by State and local officials in the development of regulatory policies that have federalism implications.” “Policies that have federalism implications” is defined in the Executive order to include regulations that have “substantial direct effects on the States, on the relationship between the national government and the States, or on the distribution of power and responsibilities among the various levels of government.” This final rule directly regulates growers, food processors, food handlers, and food retailers, not States. This action does not alter the relationships or distribution of power and responsibilities established by Congress in the preemption provisions of section 408(n)(4) of FFDCA. For these same reasons, the Agency has determined that this final rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive order to include regulations that have “substantial direct effects on one or more Indian tribes, on the relationship between the Federal Government and the Indian tribes, or on the distribution of power and responsibilities between the Federal Government and Indian tribes.” This final rule will not have substantial direct effects on tribal governments, on the relationship between the Federal Government and Indian tribes, or on the distribution of power and responsibilities between the Federal Government and Indian tribes, as specified in Executive Order 13175. Thus, Executive Order 13175 does not apply to this final rule.

IV. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this final rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: December 6, 2006.
Donald R. Stubbs,
Acting Director, Registration Division, Office of Pesticide Programs.

Therefore, 40 CFR chapter I is amended as follows:

PART 180—[AMENDED]

1. The authority citation for part 180 continues to read as follows:

Authority: 21 U.S.C. 321(q), 346a and 371.

§ 180.176 [Amended]

2. In § 180.176, in the table to paragraph (b), amend the entry ginseng, root by removing the expiration date “12/31/06” and adding in its place “12/31/09.”

§ 180.317 [Amended]

3. In § 180.317, in the table to paragraph (b), amend the entry cranberry by removing the expiration date “12/31/06” and adding in its place “12/31/09.”

§ 180.371 [Amended]

4. In § 180.371, in the table to paragraph (b), amend the entries blueberry and citrus by removing the expiration date “6/30/07” and adding in its place “12/31/09.”

§ 180.442 [Amended]

5. In § 180.442, in the table to paragraph (b), amend the entries orchardgrass, forage and orchardgrass, hay by removing the expiration date “6/30/07” and adding in its place “12/31/09.”

§ 180.527 [Amended]

6. In § 180.527, in the table to paragraph (b), amend the entries cattle, fat; cattle, kidney; cattle, meat; cattle, meat byproducts; goat, fat; goat, kidney; goat, meat; goat, meat byproducts; hog, fat; hog, kidney; hog, meat; hog, meat byproducts; horse, fat; horse, kidney; horse, meat; horse, meat byproducts; sheep, fat; sheep, kidney; sheep, meat; sheep, meat byproducts; wheat, forage; wheat, grain; wheat, hay; and wheat, straw by removing the expiration date “6/30/07” and adding in its place “12/31/09.”

§ 180.561 [Amended]

7. In § 180.561, in the table to paragraph (b), amend the entries onion, dry bulb and onion, green by removing the expiration date “6/30/07” and adding in its place “12/31/09.”

§ 180.567 [Amended]

8. In § 180.567, in the table to paragraph (b), amend the entry ginseng by removing the expiration date “12/31/06” and adding in its place “12/31/09.”

[FR Doc. E6-21506 Filed 12-19-06; 8:45 am]

BILLING CODE 6560-50-S